ENVIRONMENTAL PROTECTION AGENCY

[FRL-6984-3]

Agency Information Collection Activities: Proposed Collection; Comment Request; “General Administration Request for Assistance Programs (Lobbying & Litigation Certification Amendment)”

AGENCY: Environmental Protection Agency (EPA).

ACTION: Notice.

SUMMARY: In compliance with the Paperwork Reduction Act (44 U.S.C. 3501 et seq.), this document announces that EPA is planning to submit the following amendment to an existing Information Collection Request (ICR) to the Office of Management and Budget (OMB): General Administration Request for Assistance Programs (Lobbying & Litigation Certification Amendment), EPA ICR #0938.08, OMB #2030-0020. Before submitting the amendment to OMB for review and approval, EPA is soliciting comments on specific aspects of the proposed information collection as described below.

DATES: Comments must be submitted on or before July 30, 2001.

ADDRESSES: U.S. Environmental Protection Agency, Office of Grants and Debarment, 1200 Pennsylvania Avenue, NW, Washington, DC 20460. A copy of the ICR may be obtained at no charge by contacting Bill Hedling at the above address or at www.hedling.william@epa.gov.

FOR FURTHER INFORMATION CONTACT: William Hedling, phone: (202) 564-5377, FAX: 202-565-2470, or e-mail at www.hedling.william@epa.gov.

SUPPLEMENTARY INFORMATION: Affected entities: Affected entities include not-for-profit institutions, educational institutions, state, local or tribal governments and other entities receiving assistance awards under EPA's fiscal years (FY) 2000 and 2001 Appropriations Acts. Depending on future EPA Appropriations Act language, this requirement may also apply to these entities that receive assistance awards in subsequent fiscal years. Recipients of fellowship awards and other individuals receiving assistance awards are not affected.

Estimated Number of Recipients: Approximately 2000 annually.

Frequency of Response: Once per project or annually.

Estimated Total Annual Hour Burden: 166 hours annually for all recipients.

Estimated Total Annualized Cost (non-labor) Burden: $0.00.

Title: “General Administration Request for Assistance Programs (Lobbying & Litigation Certification Amendment)” OMB #2030-0020, EPA ICR #0938.08, expiring 12/31/2002.

Abstract: Public Law 106-377, § 424 of the FY 2001 VA, HUD and Independent Agencies Appropriations Act (Appropriations Act) requires “A chief officer of any entity receiving funds under this Act shall certify that none of the funds have been used to engage in the lobbying of the Federal Government or in litigation against the United States unless authorized under existing law.” Public Law 106-74, section 426 of the FY 2000 Appropriations Act contains a similar provision. These provisions impose additional information collection requirements on EPA assistance agreements and thus necessitate an amendment to the existing ICR.

The sole purpose of the certification is to validate that a chief executive officer of any entity receiving EPA assistance funds has certified that none of the funds were used in lobbying the Federal Government or in litigation against the United States. The certification will consist of a one-paragraph form that will be signed by a chief executive officer. It will normally be submitted with the final Financial Status Report. Recipients with multiple awards may choose to submit one certification covering all their awards on an annual basis.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: It is projected that the time involved in signing this certification is minimal. The estimate of increased time to sign this certification is five minutes.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: May 17, 2001.
Howard F. Corcoran,
Director, Office of Grants and Debarment.

[FR Doc. 01-13410 Filed 5-25-01; 8:45 am]

BILLING CODE 6560-50-P